NUCLEAR REGULATORY COMMISSION

[Docket No. 72-1051; NRC-2018-0052]

Holtec International HI-STORE Consolidated Interim Storage Facility Project

AGENCY: Nuclear Regulatory Commission.

ACTION: Draft environmental impact statement; public meeting; request for comments.

SUMMARY: On March 20, 2020, the U.S. Nuclear Regulatory Commission (NRC) published in the Federal Register (FR) a notice issuing the draft Environmental Impact Statement (EIS) for Holtec International's (Holtec's) application to construct and operate a consolidated interim storage facility (CISF) for spent nuclear fuel and Greater-Than Class C waste, along with a small quantity of mixed oxide fuel in Lea County, New Mexico. The NRC is announcing a public comment webinar to receive comments on the draft report. The public meeting will allow interested members of the public to submit their comments.

DATES: The NRC staff will hold a webinar on June 23, 2020. The staff will present the findings of the draft report and will receive public comments during transcribed public meeting. Members of the public are invited to submit comments by July 22, 2020. Comments received after this date will be considered if it is practical to do so, but the NRC is able to ensure consideration only for comments received before this date.

FOR FURTHER INFORMATION CONTACT: Jill Caverly, Office of Nuclear Material Safety and Safeguards, U.S. Nuclear Regulatory Commission, Washington, DC 20555-0001; telephone: 301-415-7674; email: Jill.Caverly@nrc.gov.

SUPPLEMENTARY INFORMATION:

I. Obtaining Information and Submitting Comments

A. Obtaining Information

Please refer to Docket ID NRC-2018-0052 when contacting the NRC about the availability of information regarding this document. You may obtain publicly-available information related to this action by the following methods:

• Federal Rulemaking Website: Go to https://www.regulations.gov and search for Docket ID NRC-2018-0052.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The draft EIS is available in ADAMS under Accession No. ML20269G420.

• NRC'S PDR: The public may submit requests to the PDR via email at PDR.Resource@nrc.gov or call 1-800-397-4209 between 8:00 a.m. and 4:00 p.m. (EST), Monday through Friday, except Federal holidays.

• Project Web Page: Information related to the Holtec HI-STORE CISF project can be accessed on the NRC's Holtec HI-STORE CISF web page at https://www.nrc.gov/waste/spent-fuel-storage/cis/holtec-international.html. Scroll down to EIS, Draft Report for Comment.

• Public Libraries: A copy of the staff's draft EIS can be accessed at the following public libraries (library access and hours are determined by local policy):

• Carlsbad Public Library, 101 S Halagueno Street, Carlsbad, NM 88220.

• Hobbs Public Library, 509 N Shipp St., Hobbs, NM 88240.

• Roswell Public Library, 301 N Pennsylvania, Roswell, NM 88201.

B. Submitting Comments

Please include Docket ID NRC-2018-0052 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Meeting Information

On March 20, 2020 (85 FR 16150), the NRC published a notice of availability of a draft EIS for Holtec's proposed CISF for spent nuclear fuel and requested public comments on the draft report. On April 27, 2020 (85 FR 23382) the NRC published a notice extending the comment period to July 22, 2020. The NRC is announcing that staff will hold a public webinar. The webinar will be held online and will offer a telephone line for members of the public to submit comments. A court reporter will be recording all comments received during the webinar. The dates and times for the public webinar are as follow:

Date | Time | Location
6/23/2020 | 5:00 PM to 9:00 PM (EDT), 3:00 PM to 7:00 PM (MDT) | Webinar Information: https://usnrc.webex.com. Event Number: 199 800 0026. Password: HOLTEC. Telephone Bridge Line: 1-888-454-7496. Participant Passcode: 5790355.

Persons interested in attending this meeting should monitor the NRC's Public Meeting Schedule web page at https://www.nrc.gov/pmns/mtg for additional information, agenda for the meeting, information on how to provide verbal comments, and access information for the meeting. Participants should register in advance of the meeting by visiting the website page (https://usnrc.webex.com) and using the event number provided above. A confirmation email will be generated providing additional details and a link to the meeting. Those wishing to make verbal comments at the meeting should follow instructions listed at the NRC's Public Meeting Schedule.

Dated: June 8, 2020.
For the Nuclear Regulatory Commission.
Diana B. Diaz Toro,
Acting Chief, Environemental Review Materials Branch, Division of Rulemaking, Environmental and Financial Review, Office of Nuclear Material Safety and Safeguards.

[FR Doc. 2020-12688 Filed 6-11-20; 8:45 am]

BILLING CODE 7590-01-P